DEPARTMENT OF JUSTICE

Notice of Lodging of Consent Decree Pursuant to the Clean Water Act, the Clean Air Act, the Comprehensive Environmental Response, Compensation, and Liability Act, and the Emergency Planning and Community Right To Know Act

In accordance with Departmental policy, 28 CFR 50.7, notice is hereby given that a proposed consent decree in United States v. National Cooperative Refinery Association, Civil Action No. 02-1363WEB, was lodged on October 11, 2002, with the United States District Court for the District of Kansas. The consent decree requires defendants National Cooperative Refinery Association to perform injunctive relief, requiring the cleaning and removal from service of two oil pipelines and to pay a total of $950,000 in civil penalties by electronic funds transfer to the United States Department of Justice, Mellon Bank.

The Department of Justice will receive, for a period of thirty (30) days from the date of this publication, comments relating to the proposed consent decree. Comments should be addressed to the Assistant Attorney General, Environmental and Natural Resources Division, PO Box 7611, U.S. Department of Justice, Washington, DC 20044-7611, and should refer to United States v. National Cooperative Refinery Association, DOJ Ref. #90-5-1-1-06025.

The proposed consent decree may be examined at the office of the United States Attorney, 1200 Epic Center, 301 N. Main, Wichita, KS 67202 and at U.S. EPA Region 7, 901 N. 5th Street, Kansas City, KS 66101. A copy of the consent decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $12.00 (25 cents per page reproduction cost) payable to the U.S. Treasury.

Robert Maher,
Assistant Section Chief, Environmental Enforcement Section.

[FR Doc. 02-27220 Filed 10-24-02; 8:45 am]

BILLING CODE 4410-15-M